DEPARTMENT OF THE INTERIOR

Bureau of Land Management

43 CFR Parts 4100

[WO-220-1020-24 1A]

RIN: 1004-AD42

Grazing Administration—Exclusive of Alaska

AGENCY: Bureau of Land Management, Interior.

ACTION: Advance notice of proposed rulemaking for proposed amendments to the BLM's Grazing Administration Regulations and announcement of public meetings.

SUMMARY: The Bureau of Land Management (BLM) requests comments and suggestions to assist us in amending our regulations governing how the BLM administers livestock grazing on public lands. The current regulations, issued in 1995, require amendment to comply with court decisions, provide greater flexibility to managers and permittees, and improve existing administrative procedures and business practices, and promote conservation of public lands. We encourage the public to participate in planned public meetings and to provide comments and suggestions to help us clearly define needed changes to the Grazing Administration Program.

DATES: You must submit your comments by May 2, 2003. BLM may not necessarily consider or include in the Administrative Record for the proposed rule comments that BLM receives after the close of the comment period or comments delivered to an address other than those listed below (see ADDRESSES). See the SUPPLEMENTARY INFORMATION section for the dates of the public meetings.

ADDRESSES: Mail: Director (630), Bureau of Land Management, Eastern States Office, 7450 Boston Boulevard, Springfield, Virginia 22153, Attention: RIN 1004-AD42.

Personal or messenger delivery: 1620 L Street NW., Room 401, Washington, DC 20036.

Direct Internet response: www.blm.gov/nhp/news/regulatory/index.html or go to BLM's external Home page at http://www.blm.gov/nhp/index.htm and click on the link.

You may also comment via email to WOComment@blm.gov. We intend this address for use by those who want to keep their electronic comments confidential and for those who are unable, for whatever reason, to use the Internet site. Please submit email comments as an ASCII file avoiding the use of special characters and any form of encryption. Please also include “Attn: AD42” and your name and return address in your email message.

You may examine documents pertinent to this proposal at the L Street address. Comments, including names and street addresses of respondents, will be available for public review on the Internet address above and may be published as part of the EIS. Individual respondents may request confidentiality.

FOR FURTHER INFORMATION CONTACT: Kenneth Visser at (202) 452-7743, for information relating to the grazing program or the substance of the regulations to be proposed, or Ted Hudson at (202) 452-5042 or Cynthia Ellis at (202) 452-5012 for information relating to the rulemaking process. Persons who use a telecommunications device for the deaf (TDD) may call the Federal Information Relay Service (FIRS) at 1-800-877-8330, 24 hours a day, seven days a week, to contact the above individuals.

SUPPLEMENTARY INFORMATION:

I. Public Comment Procedures

II. Background

III. Description of Information Requested

I. Public Comment Procedures

Your written comments should:

1. Be specific;

2. Explain the reason for your comments and suggestions;

3. Be about the issues outlined in this notice; and,

4. Where possible, reference the specific section or paragraph of existing regulations that you are addressing.

The comments and recommendations that are most useful and likely to influence decisions on the content of a proposed rule are:

1. Comments and recommendations supported by quantitative information or studies; and

2. Comments that include citations to and analyses of the applicable laws and regulations.

We are particularly interested in receiving comments and suggestions about the topics listed under III. Description of Information Requested.

If you wish to withhold your name or street address from public review or from disclosure under the Freedom of Information Act, you must state this prominently at the beginning of your written comment. We will honor such requests to the extent allowed by law. All submissions from organizations and businesses, and from individuals identifying themselves as representatives or officials of organizations or businesses, will be available for public inspection in their entirety.

We will conduct public scoping meetings on the Environmental Impact Statement associated with this proposed rulemaking. The meetings will be held on the following dates at the specified locations and times:

Location | Date and time | Address of meeting | Contact person
Billings, Montana | March 18, 2003 6-10 p.m. | Holiday Inn Grand Montana, 550 Midland Road, Billings, MT 59101 | Mary Apple (406) 896-5258
Reno, Nevada | March 20, 2003 6-10 p.m. | Reno Sparks Convention Center, 4590 S. Virginia St., Reno, NV 89502 | JoLynn Worley (775) 861-6515
Albuquerque, New Mexico | March 25, 2003 6-10 p.m. | Hilton of Albuquerque, 1901 University Blvd., NE., Albuquerque, NM 87102 | Kitty Mulkey (505) 438-7511
Washington, DC | March 27, 2003 1-5 p.m. | Courtyard By Marriott (General Scott Room), 1600 Rhode Island Ave., NW., Washington, DC 20036 | Tom Gorey (202) 452-5137

The sites for the public meetings are accessible to individuals with physical impairments. If you need a special accommodation to participate in one or all of the meetings (e.g., interpreting service, assistive listening device, or materials in alternative format), please notify the contact person listed in this notice no later than two weeks prior to the scheduled meeting. Although we will attempt to meet all requests received, the requested accommodations may not always be available.

If you plan to present a statement at the meetings, we will ask you to sign in before the meeting starts and identify yourself clearly for the record. Your speaking time at the meeting(s) will be determined before the meeting(s), based upon the number of persons wishing to speak and the approximate time available for the session. You will be provided at least three minutes to speak

If you do not wish to speak at the meetings but you have views, questions, and concerns about regulations for the BLM's Range Management Program, you may submit written statements for inclusion in the public record at the meeting. You may also submit written comments and suggestions regardless of whether you attend or speak at a public meeting. See the ADDRESSES section of this notice for where to submit comments.

II. Background

In this issue of the Federal Register BLM is also publishing a Notice of Intent (NOI) to prepare an Environmental Impact Statement (EIS) under the National Environmental Policy Act (NEPA) on the changes we are considering making to the regulations governing BLM's Grazing Administration Program. BLM is committed to making the changes to reflect the Secretary's “4C's” philosophy of “consultation, cooperation, and communication all in the service of conservation.” BLM is issuing this Advance Notice of Proposed Rulemaking and the NOI to give the public and interested parties early information about the proposed action, the potential range of alternatives, and the nature of impact analysis being considered in the EIS. We will hold meetings during which the public will be able to comment on the scope, proposed action, and possible alternatives BLM should consider when drafting the proposed rule. BLM seeks comments on this Advance Notice of Proposed Rulemaking.

Since the first set of grazing regulations was issued after passage of the Taylor Grazing Act of 1934, as amended (43 U.S.C. 315, 315a-315r), the regulations have been periodically modified, revised, and updated. The last major revision effort culminated when BLM published and implemented comprehensive changes to the grazing regulations in 1995.

The changes BLM is considering would encourage partnerships in public land stewardship and establish new options for BLM and rangeland users in the administration and management of public lands. Our goals are to:

(1) Enhance community-based conservation and citizen-centered stewardship;

(2) improve BLM business practices; and

(3) provide greater flexibility for the manager and the permittee.

III. Description of Information Requested

BLM is committed to carrying out the Secretary's objectives and the Rangeland Management Program established by the Federal Land Policy Management Act of 1976 (43 CFR 1740), the Public Rangelands Improvement Act of 1978 (43 U.S.C. 1901-1908), and the Taylor Grazing Act of 1934, as amended (43 U.S.C. 315, 315a-315r). We encourage the public to participate in planned public meetings and to provide comments and suggestions to help us clearly define needed changes in the Grazing Administration Program. We specifically are requesting comments on the topics we are considering for the proposed rule. These include, but are not limited to, the following:

A. Definitions; We are considering revising or creating definitions of the following terms:

Active use

Authorized use

Base property

Grazing lease

Grazing permit

Grazing Preference or Preference

Livestock kind or kind of livestock

Monitoring

Reserve common allotment

B. We are considering changing regulations to clarify current requirements and to allow better rangeland management and permit administration. Changes we are considering include:

• Clarifying the permit renewal performance review requirements when grazing permits are pledged as security for loans.

• Clarifying who is qualified for public lands grazing use and who will receive preference for a grazing permit or lease.

• Clarifying the provisions addressing grazing preference transfers.

• Reinstating an earlier provision that BLM and the permit holder may share title to certain range improvements if the improvement was constructed under a Cooperative Range Improvement Agreement.

• Clarifying that BLM will follow state law with respect to the acquisition of water rights.

• Examining whether BLM should authorize temporarily locked gates on public lands in order to protect private land and improve livestock operations.

• Clarifying which non-permit related violations BLM may take into account in penalizing a permittee.

• Considering ways to streamline the grazing decision appeal process.

• Extending the time period that BLM may approve nonuse of forage from 3 to 5 years for resource improvement, business, or personal needs.

C. We are also considering amendments related to changes in permitted use. Amendments we are considering include:

• Creating provisions re-emphasizing consideration of social, economic, and cultural impact, in addition to the ecological impacts, of Federal actions to ensure compliance with the National Environmental Policy Act.

• Requiring a permittee/lessee to apply to renew a permit or lease.

• What criteria BLM will consider before approving increases in permitted use.

• Considering whether to amend the provision stating when BLM will implement action that changes grazing management after determining that the allotments used by a permittee or lessee are not meeting or significantly progressing toward meeting land health standards.

D. We are considering adding the following new provisions to the regulations.

• Establishing and administering a new concept called “Reserve Common Allotments” (RCA). RCAs would be managed as reserve forage areas for use by permittees whose allotments are undergoing restoration treatments and require rest from grazing. RCA forage would be allocated on a temporary non-renewable basis to permittees participating in restoration on their allotments.

• Adding a fee schedule for preference transfers, crossing permits, applications for nonuse, and replacement/supplemental billing under existing service charge authority. We do not intend to address grazing fees in this rulemaking.

E. We also plan to make minor revisions to correct typographical errors and to make technical changes to improve the clarity of the rule. One change we will make is to remove references to “conservation use” permits to reflect the decision in Public Lands Council v. Babbitt, 929 F.Supp. 1436 (D. Wyo. 1996), rev'd in part and aff'd in part, 167 F.3d 1287 (10th Cir. 1999), aff'd, 529 U.S. 728 (2000).

Additional information about BLM's Rangeland, Soils, Water, and Air Program is available at http://web.blm.gov/internal/wo-200/wo-220/index.html.

Dated: January 17, 2003.
Rebecca W. Watson,
Assistant Secretary of the Interior.

[FR Doc. 03-4933 Filed 2-28-03; 8:45 am]

BILLING CODE 4310-84-P